DEPARTMENT OF HOMELAND SECURITY

Coast Guard

[Docket No. USCG-2004-17914]

MERPAC and MMMAC Recommendations on the STCW SNPRM

AGENCY: Coast Guard, DHS.

ACTION: Notice of availability.

SUMMARY: The Coast Guard announces the availability of recommendations from the Merchant Marine Personnel Advisory Committee in response to Task Statement 75, in which the Coast Guard requested review of the Supplemental Notice of Proposed Rulemaking entitled, “Implementation of the Amendments to the International Convention on Standards of Training, Certification and Watchkeeping for Seafarers, 1978, and Changes to Domestic Endorsements” (STCW SNPRM). The Coast Guard also announces the availability of recommendations from the Merchant Mariner Medical Advisory Committee after its review of the STCW SNPRM.

DATES: Comments and related material must either be submitted to our online docket via http://www.regulations.gov on or before December 5, 2011 or reach the Docket Management Facility by that date.

ADDRESSES: You may submit comments identified by docket number USCG-2004-17914 using any one of the following methods:

(1) Federal eRulemaking Portal: http://www.regulations.gov.

(2) Fax: (202) 493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202) 366-9329.

To avoid duplication, please use only one of these four methods. See the “Public Participation and Request for Comments” portion of the SUPPLEMENTARY INFORMATION section below for instructions on submitting comments.

FOR FURTHER INFORMATION CONTACT: If you have questions on this notice, call or email Mr. Rogers W. Henderson, U.S. Coast Guard, Maritime Personnel Qualifications Division; telephone: (202) 372-1408, email: Rogers.W.Henderson@uscg.mil. If you have questions on viewing or submitting material to the docket, call Renee V. Wright, Program Manager, Docket Operations, telephone: (202) 366-9826.

SUPPLEMENTARY INFORMATION:

Public Participation and Request for Comments

All comments received will be posted, without change, to http://www.regulations.gov and will include any personal information you have provided.

Submitting comments: If you submit a comment, please include the docket number for this notice (USCG-2004-17914) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, click on the “submit a comment” box, which will then become highlighted in blue. In the “Document Type” drop down menu select “Notices” and insert “USCG-2004-17914” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the Docket: To view comments and the MERPAC and MMMAC recommendations on the STCW SNPRM, go to http://www.regulations.gov, click on the “read comments” box, which will then become highlighted in blue. In the “Keyword” box insert “USCG-2004-17914” and click “Search.” Click the “Open Docket Folder” in the “Actions” column. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background

On August 1, 2011, the Coast Guard published a Supplemental Notice of Proposed Rulemaking (SNPRM) in the Federal Register entitled, “Implementation of the Amendments to the International Convention on Standards of Training, Certification and Watchkeeping for Seafarers, 1978, and Changes to Domestic Endorsements” (STCW) (76 FR 45908). In response to Coast Guard Task Statement 75, the Merchant Marine Personnel Advisory Committee reviewed the SNPRM and made recommendations. The Merchant Mariner Medical Advisory Committee also reviewed the SNPRM and has issued recommendations. The recommendations from both committees are available to the public by following the directions in the “Viewing the Docket” section above.

This notice is issued under authority of 5 U.S.C. 552(a) and 33 CFR 1.05-1.

Dated: October 28, 2011.
Russell C. Proctor,
Captain, U.S. Coast Guard, Chief, Office of Operating & Environmental Standards.

[FR Doc. 2011-28440 Filed 11-2-11; 8:45 am]

BILLING CODE 9110-04-P